DEPARTMENT OF THE INTERIOR

Bureau of Land Management

[LLIDT000000.L11200000.DD0000.241A.00; MO 4500069133]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District Resource Advisory Council will meet September 18, 2014, at La Quinta Inn, 539 Poleline Road, Twin Falls, Idaho. The meeting will begin at 9:00 a.m. and end no later than 3:00 p.m. The public comment period will take place from 9:10 a.m. to 9:40 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During the September 18th meeting, there will be an overview of the roles and responsibilities of a BLM law enforcement officer, an overview of the 2014 fire season and field office updates. Additional topics may be added and will be included in local media announcements. More information is available at www.blm.gov/id/st/en/res/resource_advisory.3.html.

RAC meetings are open to the public.

Authority: 43 CFR 1784.4-1

June E. Shoemaker,
Twin Falls District Manager (Acting).

[FR Doc. 2014-20733 Filed 8-29-14; 8:45 am]

BILLING CODE 4310-GG-P